DEPARTMENT OF COMMERCE

National Oceanic and Atmospheric Administration

[RTID 0648-XW008]

Endangered and Threatened Species; Extension of Public Comment Period

AGENCY: National Marine Fisheries Service (NMFS), National Oceanic and Atmospheric Administration (NOAA), Commerce.

ACTION: Notice; extension of public comment period.

SUMMARY: NMFS hereby extends the comment period on the notice of initiation of 5-year reviews of 28 species of Pacific salmon and steelhead (Oncorhynchus spp.) listed under the Endangered Species Act of 1973, as amended (ESA).

DATES: Comments and new relevant information related to these 5-year reviews must be received by midnight on May 26, 2020.

ADDRESSES: You may submit information on this document, identified by NOAA-NMFS-2019-0097, by any of the following methods:

• Electronic Submissions: Submit all electronic public comments via the Federal e-Rulemaking Portal www.regulations.gov. To submit comments via the e-Rulemaking Portal, first click the “submit a comment” icon, then enter NOAA-NMFS-2019-0097 in the keyword search. Locate the document you wish to comment on from the resulting list and click on the “Submit a Comment” icon to the right of that line.

• Mail or Hand-Delivery: Address comments to Robert Markle, NMFS, West Coast Region, 1201 NE Lloyd Blvd., Suite 1100, Portland, OR 97232.

• Instructions: Comments must be submitted by one of the above methods to ensure that we can receive, document, and consider them. Comments sent by any other method, sent to any other address or individual, or received after the end of the comment period may not be considered. All comments received are a part of the public record and will generally be posted for public viewing on www.regulations.gov without change. All personal identifying information (e.g., name, address, etc.) submitted voluntarily by the sender will be publicly accessible. Do not submit confidential business information, or otherwise sensitive or protected information. We request that all information be accompanied by: (1) Supporting documentation such as maps, bibliographic references, or reprints of pertinent publications; and (2) the submitter's name, address, and any association, institution, or business that the person represents. NMFS will accept anonymous comments (enter “N/A” in the required fields if you wish to remain anonymous).

Please note that submissions without supporting information—those merely stating support for or opposition to the action under consideration—will be noted but not used in making any listing determinations, as such comments do not represent actual scientific or commercial data.

FOR FURTHER INFORMATION CONTACT: Robert Markle at the above address, by phone at (503) 230-5419, or by email at robert.markle@noaa.gov.

SUPPLEMENTARY INFORMATION: On October 4, 2019, we announced the initiation of 5-year reviews for 28 listed species of Pacific salmon and steelhead; see 84 FR 53117 for a complete list of the species under review as well as the relevant statutory provisions, policies and information under consideration. The original comment period was set to close on March 27, 2020.

However, we are now extending the comment period by 60 days to provide additional opportunity for public input.

Authority: 16 U.S.C. 1531 et seq.

Dated: March 19, 2020.
Angela Somma,
Chief, Endangered Species Conservation Division, National Marine Fisheries Service.

[FR Doc. 2020-06149 Filed 3-23-20; 8:45 am]

BILLING CODE 3510-22-P